DEPARTMENT OF ENERGY

Energy Information Administration

Agency Information Collection Extension

AGENCY: U.S. Energy Information Administration (EIA), U.S. Department of Energy (DOE).

ACTION: Notice and request for comments.

SUMMARY: EIA submitted an information collection request for extension as required by the Paperwork Reduction Act of 1995. The information collection requests a three-year extension of Form OE-417 Electric Emergency Incident and Disturbance Report, OMB Control Number 1901-0288. Form OE-417 collects information for DOE to monitor electric emergency incidents and disturbances in the United States (including all 50 States, the District of Columbia, Puerto Rico, U.S. Virgin Islands, and the U.S. Territories). The information collected allows DOE to conduct post-incident reviews examining significant interruptions of electric power or threats to the national electric system.

DATES: Comments on this information collection must be received no later than December 7, 2020. Written comments and recommendations for the information collection should be sent within 30 days of publication of this notice to https://www.reginfo.gov/public/do/PRAMain. Find this particular information collection by selecting “Currently under 30-day Review—Open for Public Comments” or by using the search function.

FOR FURTHER INFORMATION CONTACT: Matthew Tarduogno, U.S. Department of Energy, matthew.tardugono@hq.doe.gov, 202-586-2892. The forms and instructions are available online at: https://www.oe.netl.doe.gov/oe417.aspx.

SUPPLEMENTARY INFORMATION: This information collection request contains

(1) OMB No.: 1901-0288;

(2) Information Collection Request Title: Electric Emergency Incident and Disturbance Report;

(3) Type of Request: Three-year extension with changes;

(4) Purpose: DOE uses Form OE-417 Electric Emergency Incident and Disturbance Report to monitor electric emergency incidents and disturbances in the United States (including all 50 States, the District of Columbia, Puerto Rico, U.S. Virgin Islands, and the U.S. Territories) and to investigate significant interruptions of electric power or threats to the electric system reliability. Form OE-417 also enables DOE to meet the Department's national security responsibilities as the coordinating agency for Emergency Support Function (ESF) #12—Energy, under the National Response Framework, and the Sector-Specific Agency for the energy sector, pursuant to Presidential Policy Directive 21—Critical Infrastructure Security and Resilience, Presidential Policy Directive 41—United States Cyber Incident Coordination, and the Fixing Americas Surface Transportation (FAST) Act, Public Law 114-94. The information may also be shared with other non-regulatory federal agencies assisting in emergency response and recovery operations, or investigating the causes of an incident or disturbance to the national electric system. Public summaries are published on Form OE-417 web page at https://www.oe.netl.doe.gov/oe417.aspx on a monthly basis to keep the public informed.

(4a) Changes to Information Collection: DOE is changing the form number from Form OE-417 to Form DOE-417. The other changes to Form OE-417 align the reporting requirements with the recently approved North American Electric Reliability Corporation (NERC) CIP-008-6 Reliability Standard, which established new definitions for a Cyber Security Incident and a Reportable Cyber Security Incident. CIP-008-6 also expanded the reporting requirements; including expanding the applicable systems to report on and adding new reporting requirements for attempted compromises of high and medium impact BES cyber systems and their associated electronic access control or monitoring systems. The continued alignment between Form OE-417 and NERC reporting requirements helps minimize confusion among industry stakeholders about where and how to file reports and enable industry stakeholders to train personnel to report using a single form. By incorporating the requirements established by NERC CIP-008-6 Reliability Standard in Form OE-417, entities may only be required to submit Form OE-417. This change reduces the reporting burden for the electric power industry. Additional changes to Form OE-417 clarify reporting criteria and allow respondents to select potentially applicable exceptions under the Freedom of Information Act. While submitters may mark information as potentially exempt, whether information is or is not exempt as part of a FOIA response will be determined by the Department at the time of processing the FOIA request. See DOE's FOIA regulations at 10 CFR part 1004 for more information. Three changes were made to the form and one addition was made to the directions based on comments received during the 60-day public comment period. A summary of these and other changes to Form OE-417 is provided below:

• Changed the lettering or name of the form from “Form OE-417” to “Form DOE-417”

• Added new reporting requirements from the North American Electric Reliability Corporation (NERC) CIP-008-6 Standard to reduce the combined burden on respondents reporting to NERC and DOE and streamline responses. It is expected that for NERC reporting entities registered in the United States; NERC will accept use of Form OE-417 to meet the submittal requirements that will be established by CIP-008-6 to the Department of Homeland Security and the Electricity Information Sharing and Analysis Center

• Updated the “Response Due” criteria with new line numbers and added the following:

○ If criterion 2 is met, also submit the Cyber Attributes on line T in Schedule 2.”

○ “By the end of the next calendar day after a determination, submit Schedule 1 and lines N—S and the Cyber Attributes on line T in Schedule 2 as an Attempted Cyber Compromise if criterion 14 is met.”

○ “If multiple criterion are met by an incident, Schedule 1 and any additionally required information (as noted above), must be submitted within timeframe established by the criteria with the shortest reporting timeline.”

○ “For criterion 14 only, updates can be submitted within 7 calendar days of a determination of new or changed attribute information.”

• Renumbered reporting criteria due to the new reporting requirements.

• To align with reporting requirements established by the NERC CIP-008-06 standard:

○ Reworded Criteria 2 to “Reportable Cyber Security Incident”

○ Added new Criteria 3 “Cyber event that is not a Reportable Cyber Security Incident that causes interruptions of electrical system operations.”

• To align with reporting requirements established by the NERC CIP-008-06 standard

○ Added “Attempted Cyber Compromise” Alert Type to be filed within 1-Day

○ Added corresponding criteria “Cyber Security Incident that was an attempt to compromise a High or Medium Impact Bulk Electric System Cyber System or their associated Electronic Access Control or Monitoring Systems”

• Updated Line Numbers throughout Schedule 1 and Schedule 2

• Added self-identified FOIA Exemption criteria for respondents to identify whether the respondent considers the information in Schedule 1 Lines C & D may be exempt FOIA due to the following:

○ “Privileged or confidential information, e.g., trade secrets, commercial, or financial information”

○ “Critical Electric Infrastructure Information”

○ “Other information exempt from FOIA”

• Added self-identified FOIA Exemption criteria for respondents to identify whether information in Schedule 2 may be exempt FOIA due to the following:

○ “Privileged or confidential information, e.g., trade secrets, commercial, or financial information”

○ “Critical Electric Infrastructure Information”

○ “Other information exempt from FOIA”

• Added the following to the direction to the Narrative Section “Cyber Attributes: For cyber events, including attempted cyber compromises, provide the following attributes (at a minimum): (1) The functional impact, (2) the attack vector used, and (3) the level of intrusion that was achieved or attempted.”

• Added the DHS CISA Central or their successor(s) to Line W.

• Added “For respondents that have reporting requirements under EOP-004, criteria 6, 7, and 15-26 satisfy the EOP-004 reporting if shared with NERC by DOE. For respondents that have reporting requirements under CIP-008, criteria 2 and 14 satisfy the CIP-008 reporting if shared with the E-ISAC and DHS CISA Central by DOE. For DOE to share the form, the appropriate boxes must be selected under Schedule 2, line W. If a particular incident meets both EOP-004 and CIP-008 requirements, then the respondent can file separate DOE-417 reports, if they only want certain information to be shared by DOE with NERC, the E-ISAC, and DHS CISA Central. DOE will share all of the information provided on the form with the entities selected in Schedule 2, line W” to the instructions.

(5) Annual Estimated Number of Respondents: 2,514.

(6) Annual Estimated Number of Total Responses: 250.

(7) Annual Estimated Number of Burden Hours: 5,455.

(8) Annual Estimated Reporting and Recordkeeping Cost Burden: $437,164 (5,455 burden hours times $80.14 per hour). EIA estimates that respondents will have no additional costs associated with the survey other than the burden hours.

Comments are invited on whether or not: (a) The proposed collection of information is necessary for the proper performance of agency functions, including whether the information will have a practical utility; (b) EIA's estimate of the burden of the proposed collection of information, including the validity of the methodology and assumptions used, is accurate; (c) EIA can improve the quality, utility, and clarity of the information it will collect; and (d) EIA can minimize the burden of the collection of information on respondents, such as automated collection techniques or other forms of information technology.

Statutory Authority: 15 U.S.C. 772(b), 764(b); 764(a); and 790a and 42 U.S.C. 7101 et seq. and the Public Utility Regulatory Policies Act of 1978 (16 U.S.C. 2601, Public Law 93-275).

Signing Authority: This document of the Department of Energy was signed on October 22, 2020, by Nicholas Andersen, Deputy Assistant Secretary, Office of Cybersecurity, Energy Security, and Emergency Response, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 3, 2020.
Treena V. Garrett,
Federal Register Liaison Officer, U.S. Department of Energy.

[FR Doc. 2020-24687 Filed 11-5-20; 8:45 am]

BILLING CODE 6450-01-P